DEPARTMENT OF COMMERCE

International Trade Administration

[A-552-802]

Frozen Warmwater Shrimp from the Socialist Republic of Vietnam: Notice of Extension of Time Limit for the Final Results of the 2008-2009 Administrative Review

AGENCY: Import Administration, International Trade Administration, Department of Commerce.

EFFECTIVE DATE: June 30, 2010.

FOR FURTHER INFORMATION CONTACT: Susan Pulongbarit or Paul Walker, AD/CVD Operations, Office 9, Import Administration, International Trade Administration, U.S. Department of Commerce, 14th Street and Constitution Avenue, NW, Washington, DC 20230; telephone (202) 482-4031 or (202) 482-0413, respectively.

SUPPLEMENTARY INFORMATION:

Background

On March 15, 2010, the Department of Commerce (“Department”) published in the Federal Register the preliminary results of the 2008 2009 administrative review of the antidumping duty order on frozen warmwater shrimp from the Socialist Republic of Vietnam (“Vietnam”) covering the period February 1, 2008, through January 31, 2009. See Certain Frozen Warmwater Shrimp from the Socialist Republic of Vietnam: Preliminary Results, Partial Rescission, and Request for Revocation, in Part, of the Fourth Administrative Review, 75 FR 12206 (March 15, 2010). The final results are currently due no later than July 13, 2010.

Extension of the Time for the Final Results

Section 751(a)(3)(A) of the Tariff Act of 1930, as amended (“Act”), requires that the Department issue the final results of an administrative review within 120 days after the date on which the preliminary results are published. If it is not practicable to complete the review within that time period, section 751(a)(3)(A) of the Act allows the Department to extend the deadline for the final results to a maximum of 180 days after the date on which the preliminary results are published.

The Department requires additional time in order to consider the new surrogate values placed on the record after the preliminary results and to provide interested parties an opportunity to comment on the Department's surrogate wage rate methodology. Thus, it is not practicable to complete this review by July 13, 2010. Therefore, the Department is extending the time limit for completion of the final results of this review by 17 days, in accordance with section 751(a)(3)(A) of the Act. The final results are now due no later than July 30, 2010.

We are issuing and publishing this notice in accordance with sections 751(a)(1) and 777(i)(1) of the Act.

Dated: June 23, 2010.
John M. Andersen,
Acting Deputy Assistant Secretary for Antidumping and Countervailing Duty Operations.

[FR Doc. 2010-15954 Filed 6-29-10; 8:45 am]

BILLING CODE 3510-DS-S